DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) is submitting a request for reinstatement of a previously approved collection of information under the emergency processing procedures in Office of Management and Budget (OMB) regulation 5 CFR 1320.13. FEMA is requesting that this information collection be approved by August 26, 2005. The approval will authorize FEMA to use the collection through February 26, 2006. To help us with the timely processing of the emergency clearance submission to OMB, FEMA invites the general public to comment on the proposed collection of information.

SUPPLEMENTARY INFORMATION: Public Law 106-398, Fire Investment and Response Enhancement (FIRE) Act, Title XVII—Assistance to Firefighters, recognized that America's fire departments provide service and protection with impact far beyond the borders of the communities that support them. In order to provide this service and protection with the effectiveness, speed, and safety that their home communities and the nation as a whole demand, many fire departments, local community and state entities will need to increase their resources, in any of several categories. PL 106-398 created a fund to support worthy proposals to address these needs. But PL 106-398 also recognized that our current understanding of the magnitude and nature of fire department needs is not well defined. Furthermore, the rationale for Federal government assistance to meet these needs is also in need of greater definition, given the normal presumption that routine fire protection is a local function, set to meet locally defined goals and supported by local resources. Accordingly, PL 106-398, Section 1701, Sec. 33 (b) required that the Director of the Federal Emergency Management Agency (FEMA) conduct a study to define the current role and activities associated with the fire services; determine the adequacy of current levels of funding; and provide a needs assessment to identify shortfalls.

Collection of Information:

Title: U.S. Fire Service Needs Assessment Survey.

Type of Information Collection: Reinstatement, with change, of a previously approved collection.

OMB Number: 3067-0294.

Abstract: The Assistance to Firefighters Grant Program Reauthorization Act of 2004 includes a requirement for new information in a study and report on assistance to firefighters (Sec. 3603). The Administrator of the U.S. Fire Administration (USFA) is directed to conduct a study, in conjunction with the National Fire Protection Association (NFPA), to (a) “define the current roles and activities associated with the fire services on a national, State, regional, and local level;” (b) “identify the equipment, staffing, and training required to fulfill the roles and activities” defined in (a);(c) “conduct an assessment to identify gaps between what fire departments currently possess and what they require to meet the equipment, staffing, and training needs” identified under (b) “on a national and State-by-State basis”; and (d) measure the impact of the Assistance to Firefighters Grant program. The act authorizes $300,000 for FY 2005 for this work.

Affected Public: State, Local or Tribal Governments; Not-for-Profit Institutions.

Number of Respondents: 5,000.

Estimated Time per Respondent: 20 minutes (.33 hours).

Estimated Total Annual Burden Hours: 1,665 hours.

Estimated Cost: The total cost to the Federal government is estimated at $273,645.00. Cost to all respondents combined totals $30,772.00 with an average cost per respondent of $6.00. Estimated respondents cost is based on a national mean hourly rate of $18.65 for firefighter occupations.

Frequency of Response: One-time only survey.

Comments: Written comments are solicited to (a) evaluate whether the proposed data collection is necessary for the proper performance of the agency, including whether the information shall have practical utility; (b) evaluate the accuracy of the agency's estimate of the burden of the proposed information collection, including the validity of the methodology and assumptions used; (c) enhance the quality, utility, and clarity of the information to be collected; and (d) minimize the burden of the collection of information on those who are to respond, including through the use of appropriate automated, electronic, mechanical, or other technology, e.g., permitting electronic submission of responses. Submit comments to OMB within 30 days of the date of this notice. To ensure that FEMA is fully aware of any comments or concerns that you share with OMB, please provide us with a copy of your comments. FEMA will continue to accept comments from interested persons through September 26, 2005). Submit comments to the FEMA address listed below:

OMB Address: Interested persons are invited to submit written comments on the proposed information collection to the Office of Information and Regulatory Affairs, Attn: OMB Desk Officer for the Federal Emergency Management Agency, Emergency Preparedness & Response Directorate, U.S. Department of Homeland Security, (Proposed reinstatement of a previously approved information collection (OMB 3067-0294, U.S. Fire Service Needs Assessment Survey), facsimile number (202) 395-6974.

FOR FURTHER INFORMATION CONTACT: Requests for additional information or copies of the information collection should be made to Chief, Records Management, Information Resources Management Branch, Information Technology Services Division, Federal Emergency Management Agency, Emergency Preparedness and Response Directorate, U.S. Department of Homeland Security, 500 C Street, SW., Room 316, Washington, DC 20472. Facsimile number (202) 646-3347, or at e-mail address FEMA-Information-Collections@dhs.gov.

Dated: July 18, 2005.
George S. Trotter,
Acting Branch Chief, Information Resources Management Branch, Information Technology Services Division.

[FR Doc. 05-14664 Filed 7-25-05; 8:45 am]

BILLING CODE 9110-17-P